DEPARTMENT OF ENERGY

Federal Energy Regulatory Commission

Combined Notice of Filings #1

Take notice that the Commission received the following electric rate filings:

Docket Numbers: ER16-2643-003; ER18-276 001.

Applicants: Panda Stonewall LLC, Hummel Station LLC.

Description: Triennial Market Power Analysis for Northeast Region of Panda MBR Sellers, et al.

Filed Date: 02/24/2021.

Accession Number: 20210224-5086.

Comment Date: 5 p.m. ET 4/26/21.

Docket Numbers: ER19-2273-003.

Applicants: Southwest Power Pool, Inc.

Description: Compliance Filing in Response to Order issued to be effective 1/1/2020.

Filed Date: 02/24/2021.

Accession Number: 20210224-5075.

Comment Date: 5 p.m. ET 3/17/21.

Docket Numbers: ER20-2379-001.

Applicants: Sugar Creek Wind One LLC.

Description: Notice of Non-Material Change in Status of Sugar Creek Wind One LLC.

Filed Date: 02/24/2021.

Accession Number: 20210224-5089.

Comment Date: 5 p.m. ET 3/17/21.

Docket Numbers: ER21-911-000.

Applicants: Montana-Dakota Utilities Co.

Description: Montana-Dakota Utilities Co. submits tariff filing per: Supplement to Updated Seller Category and Market Power Analysis to be effective N/A.

Filed Date: 02/24/2021.

Accession Number: 20210224-5115.

Comment Date: 5 p.m. ET 3/17/21.

Docket Numbers: ER21-1196-000.

Applicants: American Electric Power Service Corporation, Ohio Power Company, AEP Ohio Transmission Company, Inc., PJM Interconnection, L.L.C.

Description: American Electric Power Service Corporation submits tariff filing per 35.13(a)(2)(iii: AEP submits the Lott FA re: ILDSA SA No. 1336 to be effective 4/26/2021.

Filed Date: 02/24/2021.

Accession Number: 20210224-5074.

Comment Date: 5 p.m. ET 3/17/21.

Docket Numbers: ER21-1197-000.

Applicants: All Choice Energy MidAmerica LLC.

Description: All Choice Energy MidAmerica LLC submits tariff filing per 35.12: Market-Based Rate Tariff Application to be effective 2/25/2021.

Filed Date: 02/24/2021.

Accession Number: 20210224-5096.

Comment Date: 5 p.m. ET 3/17/21.

Docket Numbers: ER21-1198-000.

Applicants: Pay Less Energy LLC.

Description: Pay Less Energy LLC submits tariff filing per 35.12: Market-Based Rate Tariff Application to be effective 2/25/2021.

Filed Date: 02/24/2021.

Accession Number: 20210224-5099.

Comment Date: 5 p.m. ET 3/17/21.

Docket Numbers: ER21-1199-000.

Applicants: PJM Interconnection, L.L.C.

Description: PJM Interconnection, L.L.C. submits tariff filing per 35.13(a)(2)(iii: Amendment to ISA/CSA, Service Agreement Nos. 5604 and 5614; Queue No. AC1-164 to be effective 2/24/2020.

Filed Date: 02/24/2021.

Accession Number: 20210224-5104.

Comment Date: 5 p.m. ET 3/17/21.

Take notice that the Commission received the following PURPA 210(m)(3) filings:

Docket Numbers: QM21-6-000.

Applicants: Indiana Municipal Power Agency.

Description: Application of Indiana Municipal Power Agency to Terminate Its Mandatory Purchase Obligation under the Public Utility Regulatory Policies Act of 1978.

Filed Date: 02/24/2021.

Accession Number: 20210224-5102.

Comment Date: 5 p.m. ET 3/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2021.
Kimberly D. Bose,
Secretary.

[FR Doc. 2021-04262 Filed 3-1-21; 8:45 am]

BILLING CODE 6717-01-P